DEPARTMENT OF ENERGY

Federal Energy Regulatory Commission

[Discovery Producer Services LLC, Docket No. CP06-425-001; Discovery Gas Transmission LLC, Docket No. CP06-426-001]

Notice of Abbreviated Application To Amend Limited Jurisdiction Certificate of Public Convenicence and Necessity

December 28, 2006.

Take notice that on December 14, 2006, Discovery Producer Services LLC (DPS) and Discovery Gas Transmission LLC (Discovery) jointly filed an abbreviated application to amend the certificates of public convenience and necessity granted DPS and Discovery, authorizing DPS to provide Discovery the use of capacity on DPS' non-jurisdictional gathering facilities through a capacity lease, to effectuate firm and interruptible transportation of natural gas received from Texas Eastern Transmission, LP for delivery of DPS' Larose processing plant and for ultimate delivery downstream into the interstate pipeline grid.

Discovery further states that copies of the filing have been mailed to each of its customers, interested state commissions and other interested persons.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before January 12, 2007. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-22687 Filed 1-5-07; 8:45 am]

BILLING CODE 6717-01-P